DEPARTMENT OF HEALTH AND HUMAN SERVICES

National Institutes of Health

Food and Drug Administration

Statement of Organization, Functions, and Delegations of Authority

AGENCY: National Institutes of Health and Food and Drug Administration, HHS.

ACTION: Notice.

SUMMARY: The Secretary of Health and Human Services delegates to the National Institutes of Health (NIH) Director and the Food and Drug Administration (FDA) Commissioner the authorities vested in the Secretary of Health and Human Services under Section 3 of the Accelerating Access to Critical Therapies for ALS Act, as amended, to establish and implement a Public-Private Partnership for rare neurodegenerative diseases. These authorities may be redelegated. Exercise of this authority shall be in accordance with established policies, procedures, guidelines, and regulations as prescribed by the Secretary. The Secretary retains the authority to submit reports to Congress and promulgate regulations.

DATES: This authority delegation was approved by the Secretary of Health and Human Services on November, 29, 2022.

Dated: November 29, 2022.
Xavier Becerra,
Secretary, Department of Health and Human Services.

[FR Doc. 2022-26280 Filed 12-1-22; 8:45 am]

BILLING CODE 4140-01-P